DEPARTMENT OF TRANSPORTATION

Federal Aviation Administration

Notice of Intent To Release Certain Properties From All Terms, Conditions, Reservations and Restrictions of a Quitclaim Deed Agreement Between Palm Beach County and the Federal Aviation Administration for the Palm Beach International Airport, West Palm Beach, FL

AGENCY: Federal Aviation Administration (FAA), DOT.

ACTION: Request for Public Comment.

SUMMARY: The FAA hereby provides notice of intent to release certain airport properties 15.83 acres at the Palm Beach International Airport, West Palm Beach, FL from the conditions, reservations, and restrictions as contained in a Quitclaim Deed agreement between the FAA and the Palm Beach County, dated September 11, 1948. The release of property will allow Palm Beach County to dispose of the property for other than aeronautical purposes. The property is located on the northwest corner of Congress Avenue and Gun Club Road in Palm Beach County, Florida. The parcel is currently designated as non-aeronautical use. The property will be released of its federal obligations to swap the land for another County-owned parcel. The 16.92 acre parcel to be acquired is located in Airport Center at the northeast corner of Australian Avenue and Southern Boulevard in Palm Beach County, Florida. This parcel is adjacent to airport property and is currently occupied by a hotel. The fair market value of the Gun Club Road parcel has been determined by appraisal to be $5,875,000. The fair market value of the Australian Avenue parcel has been determined by appraisal to be $5,785,000.

Documents reflecting the Sponsor's request are available, by appointment only for inspection at the Palm Beach International Airport and the FAA Airports District Office.

SUPPLEMENTARY INFORMATION: Section 125 of The Wendell H. Ford Aviation Investment and Reform Act for the 21st Century (AIR-21) requires the F to provide an opportunity for public notice and comment prior to the “waiver” or “modification” of a sponsor's Federal obligation to use certain airport land for non-aeronautical purposes.

DATES: Comments are due on or before November 8, 2010.

ADDRESSES: Documents are available for review at the Palm Beach International Airport, and the FR Airports District Office, 5950 Hazeltine National Drive, Suite 400, Orlando, FL 32822. Written comments on the Sponsor's request must be delivered or mailed to: Rebecca R. Henry, Program Manager, Orlando Airports District Office, 5950 Hazeltine National Drive, Suite 400, Orlando, FL 32822-5024.

FOR FURTHER INFORMATION CONTACT: Rebecca R. Henry, Program Manager, Orlando Airports District Office, 5950 Hazeltine National Drive, Suite 400, Orlando, FL 32822-5024.

W. Dean Stringer,
Manager, Orlando Airports District Office, Southern Region.

[FR Doc. 2010-25213 Filed 10-7-10; 8:45 am]

BILLING CODE 4910-13-M